DEPARTMENT OF DEFENSE

Department of the Army

Privacy Act of 1974; System of Records

AGENCY: Department of the Army, DoD.

ACTION: Notice to amend systems of records.

SUMMARY: The Department of the Army is amending two systems of records notices in its existing inventory of records systems subject to the Privacy Act of 1974, (5 U.S.C. 552a), as amended.

DATES: This proposed action will be effective without further notice on May 14, 2001 unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 6, 2001.
L.M. Bynum,
Alternate OSD Federal Register Liaison Officer, Department of Defense.

A0601-280a TAPC

System Name:

Qualitative Management Program Appeal File (February 22, 1993, 58 FR 10002).

Changes:

* * * * *

System Location:

Delete entry and replace with ‘Active Duty Army and Active Army Reserve records are located at Commander, U.S. Army Enlisted Records and Evaluation Center, 8899 East 56th Street, Indianapolis, IN 46249-5301.

Active National Guard Reserve records are located at the Commander, Army Personnel Command, 1 Reserve Way, St. Louis, MO 63132-5200.’

Categories of Individuals Covered by the System:

Delete entry and replace with ‘Active Duty Army, full time Active National Guard Reserve and Active Army Reserve enlisted members in the grades of E-6 through E-9 who have appealed a bar to reenlistment.’

* * * * *

Authority for Maintenance of the System:

Delete entry and replace with ‘10 U.S.C. 3013, Secretary of the Army; Army Regulation 635-200, Personnel Separation/Enlisted Personnel; Army Regulation 601-280, Army Retention Program; E.O. 9397 (SSN).’

Purpose(s):

Delete entry and replace with ‘Records in this system are used for the management of personnel and manpower in order to deny continued service to non-productive enlisted soldiers and retain quality enlisted soldiers in the Army and to encourage soldiers to maintain eligibility for further service.’

* * * * *

Storage:

Delete entry and replace with ‘Paper records in file folders and electronic storage media.’

Retention and Disposal:

Delete entry and replace with ‘Approved certificate to bar reenlistment and approved recommendation to withdraw bar to reenlistment are filed in permanent section of the Military Personnel Records Jacket in accordance with prescribed regulations. Bar to reenlistment certificates for which total withdrawal has been approved are removed from the Military Personnel Records Jacket and destroyed. Documents used to determine reenlistment eligibility including entries transferred from personnel records, remarks by commander, additional documentation of interviews and similar information is forwarded with Military Personnel Records Jacket in accordance with prescribed regulations, destroy on reenlistment of individual.’

* * * * *

A0601-280a TAPC

System Name:

Qualitative Management Program Appeal File.

System Location:

Active Duty Army and Active Army Reserve records are located at U.S. Army Enlisted Records and Evaluation Center, 8899 East 56th Street, Indianapolis, IN 46249-5301. Active National Guard Reserve records are located at the Commander, Army Personnel Command, 1 Reserve Way, St. Louis, MO 63132-5200.

Categories of Individuals Covered by the System:

Active Duty Army, full time Active National Guard Reserve and Active Army Reserve enlisted members in the grades of E-6 through E-9 who have appealed a bar to reenlistment.

Categories of Records in the System:

File contains name, Social Security Number, pay grade, date of rank, basic active service date, estimated termination of service, primary and secondary military occupational specialties, bar to reenlistment letter/memorandum, appeal to bar to reenlistment and associated documentation, final determination of appeal by Reenlistment Appeals Board, enlisted efficiency reports, selected data elements pertaining to service record of appellant and similar relevant documents.

Authority for Maintenance of the System:

10 U.S.C. 3013, Secretary of the Army; Army Regulation 635-200, Personnel Separation/Enlisted Personnel; Army Regulation 601-280, Army Retention Program; E.O. 9397 (SSN).

Purpose(s):

Records in this system are used for the management of personnel and manpower in order to deny continued service to nonproductive enlisted soldiers and retain quality enlisted soldiers in the Army and to encourage soldiers to maintain eligibility for further service.

Records in this system are used for the management of personnel, year group, and manpower, in order to retain quality soldiers in the Army.

Routine uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and Practices for Storing, Retrieving, Accessing, Retaining, and Disposing of Records in the System:

Storage:

Paper records in file folders and electronic storage media.

Retrievability:

By individual's name and Social Security Number.

Safeguards:

Records are protected by physical security devices, guards, and personnel clearances for individuals working with the system.

Retention and disposal:

Approved certificate to bar reenlistment and approved recommendation to withdraw bar to reenlistment are filed in permanent section of the Military Personnel Records Jacket in accordance with prescribed regulations. Bar to reenlistment certificates for which total withdrawal has been approved are removed from the Military Personnel Records Jacket and destroyed. Documents used to determine reenlistment eligibility including entries transferred from personnel records, remarks by commander, additional documentation of interviews and similar information is forwarded with Military Personnel Records Jacket in accordance with prescribed regulations, destroy on reenlistment of individual.

System Manager(s) and Address:

Commander, U.S. Army Enlisted Records and Evaluation Center, 8899 East 56th Street, Indianapolis, IN 46249-5301 for matters concerning Active Duty Army and Active Army Reserve.

Commander, Army Personnel Command, 1 Reserve Way, St. Louis, MO 63132-5200 for matters concerning Active National Guard Reserve.

Notification procedure:

Individuals seeking to determine if information about themselves is contained in this record system should address written inquiries to the Commander, U.S. Army Enlisted Records and Evaluation Center, 8899 East 56th Street, Indianapolis, IN 46249-5301 for matters concerning Active Duty Army and Active Army Reserve; and to the Commander, Army Personnel Command, 1 Reserve Way, St. Louis, MO 63132-5200 for matters concerning Active National Guard Reserve.

Individual should provide the full name, Social Security Number, grade, and current address.

Record access procedures:

Individuals seeking access to records about themselves contained in this record system should address written inquiries to the Commander, U.S. Army Enlisted Records and Evaluation Center, 8899 East 56th Street, Indianapolis, IN 46249-5301 for matters concerning Active Duty Army and Active Army Reserve; and to the Commander, Army Personnel Command, 1 Reserve Way, St. Louis, MO 63132-5200 for matters concerning Active National Guard Reserve.

Individual should provide the full name, Social Security Number, grade, and current address.

Contesting Record Procedures:

The Army's rules for accessing records, and for contesting contents and appealing initial agency determinations are contained in Army Regulation 340-21; 32 CFR part 505; or may be obtained from the system manager.

Record Source Categories:

From Army records and reports; from appellant.

Exemptions Claimed for the System:

None.

A0601-280b TAPC

System Name:

Selective/Variable Reenlistment Bonuses (February 22, 1993, 58 FR 10002).

Changes:

* * * * *

System Name:

Delete entry and replace with “Selective Reenlistment Bonus”.

System Location:

Delete entry and replace with “U.S. Total Army Personnel Command, Selective Reenlistment Bonus Manager, 2461 Eisenhower Avenue, Alexandria, VA 22332-0451.”

Categories of Individuals Covered by the System:

Delete entry and replace with “Enlisted soldiers in grades E-1 through E-9 who have submitted a request for a selective reenlistment bonus.”

Categories of Records in the System:

Delete entry and replace with “Name, Social Security Number, grade, Military Occupational Specialty, documentation substantiating request for accelerated payment, advisory recommendation for Army Board for Correction of Military Records consideration, and similar relevant documentation.”

* * * * *

Purpose(s):

Delete entry and replace with “To determine service member's qualification for selective reenlistment bonuses.”

* * * * *

Safeguards:

Delete entry and replace with “Records are maintained in areas accessible only to authorized personnel within the performance of their duties. Records are in a secured office within a secured building.”

* * * * *

A0601-280b TAPC

System Name:

Selective Reenlistment Bonus.

System Location:

U.S. Total Army Personnel Command, Selective Reenlistment Bonus Manager, 2461 Eisenhower Avenue, Alexandria, VA 22332-0451.

Categories of Individuals Covered by the System:

Enlisted soldiers in grades E-1 through E-9 who have submitted a request for a selective reenlistment bonus.

Categories of Records in the System:

Name, Social Security Number, grade, Military Occupational Specialty, documentation substantiating request for accelerated payment, advisory recommendation for Army Board for Correction of Military Records consideration, and similar relevant documentation.

Authority for Maintenance of the System:

10 U.S.C. 3013, Secretary of the Army; Army Regulation 601-280, Army Retention Program; and E.O. 9397 (SSN).

Purpose(s):

To determine service member's qualification for selective reenlistment bonuses.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows: The DoD ‘Blanket Routine Uses’ set forth at the beginning of the Army's compilation of systems of records notices also apply to this system.

Policies and practices for storing, retrieving, accessing, retaining, and disposing of records in the system:

Storage:

Paper records in file folders and electronic storage media.

Retrievability:

By individual's surname and fiscal year.

Safeguards:

Records are maintained in areas accessible only to authorized personnel within the performance of their duties. Records are in a secured office within a secured building.

Retention and Disposal:

Records are destroyed upon reenlistment of individual.

System Manager(s) and Address:

Commander, U.S. Total Army Personnel Command, Selective Reenlistment Bonus Manager, 2461 Eisenhower Avenue, Alexandria, VA 22331-0451.

Notification Procedure:

Individuals seeking to determine if information about themselves is contained in this record system should address written inquiries to the Commander, U.S. Total Army Personnel Command, Selective Reenlistment Bonus Manager, 2461 Eisenhower Avenue, Alexandria, VA 22331-0451.

Individual should provide the full name, Social Security Number, and current address.

Record Access Procedures:

Individuals seeking access to records about themselves contained in this record system should address written inquiries to the Commander, U.S. Total Army Personnel Command, Selective Reenlistment Bonus Manager, 2461 Eisenhower Avenue, Alexandria, VA 22331-0451.

Individual should provide the full name, Social Security Number, and current address.

Contesting Record Procedures:

The Army's rule for accessing records, and for contesting contents and appealing initial agency determinations are contained in Army Regulation 340-21; 32 CFR part 505; or may be obtained from the system manager.

Record Source Categories:

From the individual, personnel records, other Army records and reports.

Exemptions Claimed for the System:

None.

[FR Doc. 01-9138 Filed 4-12-01; 8:45 am]

BILLING CODE 5001-10-M